DEPARTMENT OF ENERGY

Federal Energy Regulatory Commission

[Docket No. IC08-588-001, FERC-588]

Commission Information Collection Activities, Proposed Collection; Comment Request; Submitted for OMB Review

June 26, 2008.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission received a comment in response to an earlier Federal Register notice of February 28, 2008 (73 FR 10747-10748) and has responded to their comments in its submission to OMB.

DATES: Comments on the collection of information are due by July 31, 2008.

ADDRESSES: Address comments on the collection of information to the Office of Management and Budget, Office of Information and Regulatory Affairs, Attention: Federal Energy Regulatory Commission Desk Officer. Comments to OMB should be filed electronically, c/o oira_submission@omb.eop.gov and include the OMB Control No. (1902-0144) as a point of reference. The Desk Officer may be reached by telephone at (202) 395-7345. A copy of the comments should also be sent to the Federal Energy Regulatory Commission, Office of the Executive Director, ED-34, Attention: Michael Miller, 888 First Street NE., Washington, DC 20426. Comments may be filed either in paper format or electronically. Those persons filing electronically do not need to make a paper filing. For paper filings, such comments should be submitted to the Secretary of the Commission, Federal Energy Regulatory Commission, 888 First Street, NE., Washington, DC 20426 and should refer to Docket No. IC08-588-001. Documents filed electronically via the Internet must be prepared in an acceptable filing format and in compliance with the Federal Energy Regulatory Commission submission guidelines. Complete filing instructions and acceptable filing formats are available at (http://www.ferc.gov/help/submission-guide/electronic-media.asp). To file the document electronically, access the Commission's website and click on Documents & Filing, E-Filing (http://www.ferc.gov/docs-filing/efiling.asp), and then follow the instructions for each screen. First time users will have to establish a user name and password. The Commission will send an automatic acknowledgement to the sender's e-mail address upon receipt of comments.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-588 “Emergency Natural Gas Transportation, Sale and Exchange Transactions.”

2. Sponsor: Federal Energy Regulatory Commission.

3. Control No.: 1902-0144.

The Commission is now requesting that OMB approve with a three-year extension of the expiration date, with no changes to the existing collection. The information filed with the Commission is mandatory.

4. Necessity of the Collection of Information: Submission of the information is necessary to enable the Commission to carry out its responsibilities in implementing the statutory provisions 7(c) of the Natural Gas Act (NGA) (Pub. L. 75-688) (15 U.S.C. 717-717w) and provisions of the Natural Gas Policy Act of 1978 (NGPA), (15 U.S.C. 3301-3432). Under the NGA, a natural gas company must obtain Commission approval to engage in the transportation, sale or exchange of natural gas in interstate commerce. However, section 7(c) exempts from certificate requirements “temporary acts or operations for which the issuance of a certificate will not be required in the public interest.” The NGPA also provides for non-certificated interstate transactions involving intrastate pipelines and local distribution companies.

A temporary operation, or emergency, is defined as any situation in which an actual or expected shortage of gas supply would require an interstate pipeline company, intrastate pipeline or local distribution company, or Hinshaw pipeline to curtail deliveries of gas or provide less than the projected level of service to the customer. The natural gas companies file the necessary information with the Commission so that it may determine if the transaction/operation qualifies for exemption. A report within forty-eight hours of the commencement of the transportation, sale or exchange, a request to extend the sixty-day term of the emergency transportation, if needed, and a termination report are required. The data required to be filed for the forty-eight hour report is specified by 18 CFR 284.270 of the Commission's regulations.

5. Respondent Description: The respondent universe currently comprises 8 companies (on average per year) subject to the Commission's jurisdiction.

6. Estimated Burden: 80 total hours, 8 respondents (average per year), 1 response per respondent, and 10 hours per response (average).

7. Estimated Cost Burden to respondents: 80 hours/2080 hours per years × $126,384 per year = $4,860.

Statutory Authority: Sections 7(c) of the Natural Gas Act (NGA), Pub. L. 75-688 (15 U.S.C. 717-717w) and the Natural Gas Policy Act of 1978 (NGPA) (15 U.S.C. 3301-3432).

Kimberly D. Bose,
Secretary.

[FR Doc. E8-15166 Filed 7-2-08; 8:45 am]

BILLING CODE 6717-01-P